DEPARTMENT OF ENERGY

Western Area Power Administration

Rice Solar Energy Project Record of Decision (DOE/EIS-0439)

AGENCY: Western Area Power Administration, DOE.

ACTION: Record of Decision.

SUMMARY: Western Area Power Administration (Western) received a request from Rice Solar Energy, LLC (RSE) to interconnect its proposed Rice Solar Energy Project (Project) to Western's Parker-Blythe No. 2 Transmission Line. The Project would be located in eastern Riverside County, California, near State Route 62, approximately 40 miles northwest of Blythe, California, and 15 miles west of Vidal Junction, California. On June 10, 2011, the Notice of Availability of the Final Environmental Impact Statement (EIS) and Plan Amendment for Rice Solar Energy Project was published in the Federal Register (76 FR 34073). After considering the environmental impacts, Western has decided to allow RSE's request for interconnection to Western's transmission system at its Parker-Blythe No. 2 Transmission Line and to construct, own, and operate a new substation.

FOR FURTHER INFORMATION CONTACT: For further information, please contact Ms. Liana Reilly, Environmental Project Manager, Corporate Services Office, Western Area Power Administration, A7400, P.O. Box 281213, Lakewood, CO 80228, telephone (720) 962-7253, fax (720) 962-7263, or email: reilly@wapa.gov. For general information on DOE's National Environmental Policy Act of 1969 (NEPA) review process, please contact Carol M. Borgstrom, Director, Office of NEPA Policy and Compliance, GC-20, U.S. Department of Energy, Washington, DC 20585, telephone (202) 586-4600 or (800) 472-2756.

SUPPLEMENTARY INFORMATION: Western is a Federal agency under the United States Department of Energy (DOE) that markets and transmits wholesale electrical power through an integrated 17,000-circuit mile, high-voltage transmission system across 15 western states. Western's Open Access Transmission Service Tariff provides open access to its electric transmission system. Western provides transmission services through an interconnection if there is available capacity on the transmission system while protecting the transmission system reliability and considering the applicant's objectives.

The California Energy Commission (CEC), a regulatory agency of the State of California, has the statutory authority to license thermal powerplants of 50 megawatts or more, and is the State lead agency for the Project. CEC prepares environmental documentation equivalent to the California Environmental Quality Act (CEQA).

In compliance with the NEPA, as amended, the Federal Land Policy and Management Act of 1976 as amended, and the CEQA, Western and CEC, as joint lead agencies, with the Bureau of Land Management (BLM) as a cooperating agency, prepared and released a joint Staff Assessment/Draft Environmental Impact Statement (SA/Draft EIS) in October 2010,¹ and subsequently held a public hearing on the document in Palm Desert, California, on January 5, 2011. Following the release of the SA/Draft EIS, Western determined that the next document in the CEC process, the Presiding Member's Proposed Decision (PMPD), would be an inappropriate vehicle for Western to present responses to comments on the SA/Draft EIS. Therefore, Western prepared its own Final EIS, with input from the CEC. Western released the Final EIS in June 2011.²

¹ 75 FR 66078 (October 10, 2010).

² The Final EIS can be found on Western's Web site at: http://ww2.wapa.gov/sites/Western/transmission/interconn/Documents/ricesolar/RiceSolarFEIS.pdf.

Proposed Federal Action

Western's Federal involvement is related to the determination of whether to approve the interconnection request for the Project. Western's Proposed Action is to interconnect the Project to Western's transmission system at the existing Parker-Blythe No. 2 Transmission Line and construct, own, and operate a new substation adjacent to the transmission line.

RSE Proposed Project

RSE proposes to construct the Project in eastern Riverside County, California, on a portion of land that is privately owned. The Project would consist of a power block, a central receiver or tower, a solar field consisting of mirrors or heliostats to reflect the sun's energy to the central tower, a thermal energy storage system, technical and non-technical buildings, a storm water system, water supply and treatment system, a wastewater system, evaporation ponds, construction parking and laydown areas, and other supporting facilities. A new 10-mile 161/230 Kilovolt generator tie-line would extend from the southern boundary of the solar facility boundary to a new substation to be constructed adjacent to Western's existing Parker-Blythe No. 2 Transmission Line. Part of the generator tie-line and the entire substation would be on BLM-managed land. The substation would be owned and operated by Western and would be approximately three acres in size.

Description of Alternatives

During the environmental analysis, CEC, BLM, and Western developed 28 alternatives to the Project. These included two modifications of the Project at the proposed site, the No Project/No Action Alternative, 12 alternative site locations, a range of solar and renewable energy technologies, generation technologies using different fuels, and conservation/demand-side management.

Of the 28 alternatives, 24 were dismissed as not meeting State and Federal renewable energy policy goals, not reducing environmental impacts, or infeasible due to various physical or regulatory considerations. CEC compared the impacts of the four remaining alternatives to the impacts of the proposed Project location and configuration. The four remaining alternatives included two that would be located on the proposed site of Rice Army Airfield, consisting of the Reduced Acreage Alternative and the State Route 62/Rice Valley Road Transmission Line Alternative, in addition to the No Project/No Action Alternative, and the North of Desert Center Alternative.

The CEC decided that the North of Desert Center Alternative was a reasonable alternative to evaluate under the CEQA; thus, the potential impacts of that alternative were discussed throughout the SA/Draft EIS and the CEC Decision. The CEC concluded that impacts of this alternative with implementation of mitigation measures would have significant and unavoidable visual impacts. The number of residents adversely affected would be substantial and viewers in the easternmost slopes of Joshua Tree National Park could be affected. This site could also result in a cumulatively significant impact to local roadway traffic levels of service.

The CEC also considered the State Route 62/Rice Valley Road Transmission Line Alternative, which would be a variation of the Project by realigning a portion of the generator tie-line between the power plant site and the interconnection with Western's Parker-Blythe No. 2 Transmission Line. This alternative would eliminate the need for a new access road and, therefore, would reduce impacts to desert habitat. However, this alternative would not substantially reduce or change the nature of impacts associated with the Project, may result in less efficient operations, and would not be feasible.

Western's decision is whether to grant the interconnection to its electrical grid on the Parker-Blythe No. 2 Transmission Line. Western's statutory authorization is limited to marketing and delivering power and transmission. The alternatives that meet Western's Purpose and Need are the Project on the Rice Army Airfield site, the Reduced Acreage Alternative, and the No Action Alternative.

As required by 40 CFR 1505.2(b), Western has identified the No Project/No Action Alternative as its environmentally-preferred alternative. Under this alternative, Western would deny the interconnection request and not modify its transmission system to interconnect the Project. Under this alternative, there would be no modifications to Western's transmission system, and no new environmental impacts. While the No Project/No Action Alternative has no new environmental impacts, it would not meet Western's Purpose and Need nor RSE's objectives relating to renewable energy development. Additional design and configuration modifications were also developed as mitigation measures to the original proposal. Western, BLM, and the CEC identified that the stormwater detention basin was not needed considering the runoff characteristics of the Project site would not be significantly altered for the developed site compared to the existing site conditions. RSE agreed to modify its plans accordingly, which reduced the potential to attract birds to the site and would limit bird injury or mortality. In addition, Western determined that fiber optic communication cable was no longer needed on the Parker-Blythe No. 2 Transmission Line. Any potential impacts to biological and cultural resources related to installing fiber optic on that line were removed, as Western chose to use microwave technology instead.

Mitigation Measures

Western, BLM, and the CEC detailed 186 different Conditions of Certification or mitigation measures for the Project. These Conditions of Certification are part of the standard licensing process of the CEC, are applicable to the power plant and linear facilities as specified, and in place for the life of the project, including construction, operation, and site closure/decommissioning.

For protection of biological resources, there are 26 CEC required mitigation measures that would apply to construction and operation of the Project. These include assigning a Designated Biologist who would oversee all biological aspects of the Project and providing biological monitors to identify and protect sensitive plant and animal species during project construction. A Biological Resources Mitigation Implementation and Monitoring Plan will incorporate avoidance and minimization measures described in final versions of the Hazardous Materials Plan; the Revegetation Plan; the Weed Management Plan; the Special-Status Plant Impact Avoidance and Minimization Plan; the Desert Tortoise Translocation Plan; the Raven Monitoring, Management, and Control Plan; the Burrowing Owl Relocation and Mitigation Plan; the Streambed Management Plan; the Evaporation Pond Design, Monitoring, and Management Plan; and the Avian and Bat Protection Plan. The Biological Resources Mitigation Implementation and Monitoring Plan will include accurate and up-to-date maps depicting the location of sensitive biological resources that require temporary or permanent protection during construction and operation. As outlined in the CEC Commission Decision, RSE will also abide by the Biological Opinion (BO) issued by the U.S. Fish and Wildlife Service (USFWS). Western will abide by the BO as it pertains to Western's substation.

Rice Army Airfield is eligible for listing in the National Register of Historic Places, having sufficient integrity to reflect its important historical association with the Desert Training Center, California-Arizona Maneuver Area (DTC/C-AMA). Western, BLM, and the CEC support the designation of a noncontiguous cultural landscape (historic district) that incorporates historical archaeological sites associated with General Patton's World War II DTC/C-AMA, to be known as the Desert Training Center Cultural Landscape. RSE will abide by the cultural conditions in the CEC Commission Decision, which include, but are not limited to, the implementation of a Cultural Resources Monitoring and Mitigation Plan, construction monitoring, and data recovery as well as compliance with the Memorandum of Agreement (MOA) for Section 106 compliance.

An MOA consistent with Section 106 of the National Historic Preservation Act has been prepared and executed between Western, BLM, and the California State Historic Preservation Office. The purpose of the MOA is to document compliance with Section 106 by describing the treatment of historic properties, the Historic Properties Management Plan, results of Native American consultation, the treatment of human remains of Native American origin should they be found, and how RSE, BLM, and Western would respond to discoveries and unanticipated effects during the course of Project construction.

Cultural resources mitigation includes a number of measures that will significantly enhance the public's opportunities to obtain information about Rice Army Airfield. A historic interpretive roadside stop, including parking and a shaded information kiosk, will be constructed and maintained to inform the public that the Project would be located on the former site of Rice Army Airfield and to advise where they can obtain more information.

In consideration that water is a limited resource, the Project owner would use dry cooling, which avoids significant water use associated with steam condensation, and would limit other Project-related water uses during operations to no more than 150 acre-feet per year, as outlined in the CEC Condition, Soil & Water-5. Furthermore, CEC Condition Soil and Water-6 requires that the Project owner must also prepare and implement a Groundwater Level and Quality Monitoring and Reporting Plan to establish baseline groundwater levels and quality, and to assure the Project's water use is consistent with predicted drawdown and water quality effects in the aquifer.

While direct and cumulative significant visual impacts that would be caused by the introduction of the solar receiver tower and 360-degree luminance from the top of the receiver tower cannot be mitigated to insignificant levels or avoided, the Project would include mitigation measures that minimize other potential visual impacts. Mitigation measures prescribed by the CEC Commission Decision include, but are not limited to, surface treatment on the outermost rows of heliostats and to major structures to minimize visual intrusion and contrast by blending with the existing visual background.

Western performed a System Impact Study to assess potential transmission system impacts associated with the Project's interconnection to Western's Parker-Blythe No. 2 transmission line and downstream effects. The Project owner must prepare a mitigation plan for potential overloads in the Southern California Edison and Imperial Irrigation District systems identified in Western's System Impact Study. The plan would be approved by Western and would involve all stakeholders including Western, California Independent System Operator, Southern California Edison, Imperial Irrigation District, and Metropolitan Water District, and would be subject to agreement by RSE.

Western is adopting those mitigation measures that apply to its action and will issue a Mitigation Action Plan before any construction activity takes place. The plan will address the adopted and standard mitigation measures. When completed, the Mitigation Action Plan will be made available to the public. Taking the Project modifications, commitments, and requirements into account, all practicable means to avoid or minimize environmental harm from the Project and Western's Proposed Action have been adopted.

Comments on Final EIS

Western received comments from the U.S. Environmental Protection Agency (EPA) in a letter dated June 30, 2011, and from La Cuna de Aztlan Sacred Sites Protection Circle (La Cuna) and CAlifornians for Renewable Energy (CARE) on August 30, 2011. Based on a review of these comments, Western has determined that the comments do not present any significant new circumstances or information relevant to environmental concerns and bearing on the Project or its impacts, and a Supplemental EIS is not required. The basis for this determination is summarized below.

EPA noted that the Final EIS addressed many of their concerns on the SA/Draft EIS. Additionally, EPA expressed concerns regarding impacts to aquatic and biological resources, ephemeral washes, desert tortoise, and impacts to site hydrology and the availability of adequate compensatory mitigation lands. Responses to these concerns are addressed below. In addition, EPA wanted to reiterate the importance of meaningful tribal consultation and financial assurance. EPA suggested that the Record of Decision (ROD) include the CEC Conditions of Certification from the CEC Commission Decision. As noted previously, CEC has jurisdiction over the private lands while Western does not, thus all CEC Conditions are not listed here. RSE is required to comply with all CEC Conditions. For further information on the CEC conditions, the reader is referred to the CEC Commission Decision.

EPA recommended that heliostats and transmission towers not be placed in drainages and that the number of road crossings over washes be minimized. The Project would be sited within the previously modified drainage shed and will be constructed on the former location of the Rice Army Airfield. With regard to ephemeral washes, EPA wanted to ensure the availability of sufficient compensation lands to replace desert wash functions lost on the project site. As noted in Section 6.2 of the SA/DEIS, damage to ephemeral washes will be mitigated at a ratio of 1:1. This is confirmed in the CEC Commission Decision. Condition Bio-22 notes that the acreage of permanent and long-term impacts will include all ephemeral drainages impacted (by the Project) and that they will be mitigated by compensation at a 1:1 ratio.

EPA also requested confirmation that the detention basin was removed and that soil and water and revegetation measures are in place. Western confirms that this is the case and refers EPA and others to page 26 of the FEIS and section 6.9 of the SA/Draft EIS for in-depth information on the mitigation measures that RSE will abide by with regards to soil and water and revegetation. Additionally, EPA requested that Western condition right-of-way approval to mitigation success. Western's role in the Project is to make a decision regarding the interconnection request. Western does not have jurisdictional authority over the generation facility, and is unable to accommodate this request.

EPA also expressed concern regarding desert tortoise mitigation ratios as well as compensatory mitigation proposals. EPA wanted assurance that suitable mitigation lands are available. The mitigation measure ratios are explained on pages 6.2-92 through 6.2-94 of the SA/Draft EIS, and mitigation lands are addressed on page 6.2-97. As noted above, RSE will comply with the terms of the USFWS BO as required by the CEC, and Western will comply with the terms of the USFWS BO as related to Western's substation.

Tribal consultation was also a concern expressed by EPA as well as La Cuna and CARE. As noted in section 6.3 of the SA/DEIS and reiterated in the Final EIS, Western has been consulting with the Tribes since the beginning of the Project. Although no prehistoric or sacred sites were identified in the area of potential effect of the Project, Western has continued to consult with Tribal representatives and has sent the MOA for the Project to the tribal representatives for their review, comment, and/or signature.

Finally, EPA expressed concern regarding decommissioning and the proposed surety bond. Information regarding the surety bond and CEC's requirements can be found on page 32 of the SA/DEIS.' ”

La Cuna and CARE expressed concern that, “the EIS fails to take a hard look at cultural resources.” Cultural resources are addressed in the SA/DEIS on pages 6.3-1 through 6.3-92.

La Cuna and CARE cited that the EIS failed to look at a reasonable range of alternatives. Western would like to direct the reader to pages 4-1 through 4-74 for a description of the alternatives that were included in the alternatives analysis for the Project. Although, Western is making a decision regarding the interconnection request submitted by Solar Reserve and does not dictate the type of generation, the SA/DEIS examined alternative generation types.

Land use plan inconsistency is also noted by La Cuna and CARE. Western notes the comment and emphasizes that the decision being made in this ROD is only to grant the interconnection request for the Project and does not signify that all the other permitting and land use requirements have been met.

La Cuna and CARE mention that, “the purpose and need statements are too narrowly constructed.” Western has noted the comment and refers the reader to pages 2-4 and 2-8 through 2-9 for more information on the agency's authority, Purpose and Need.

Cumulative impacts were another issue of concern for La Cuna and CARE. Western directs the reader to section 5 of the document for the rationale describing which projects were considered for the cumulative impacts analysis as well as for the results of the analysis.

La Cuna and CARE also expressed concern that a programmatic EIS (PEIS) should have been developed prior to this EIS. Although, there is currently a PEIS being developed for solar projects, there is no requirement for the completion of a PEIS prior to the completion of a project specific EIS.

Lack of appropriate mitigation was also noted by La Cuna and CARE. Western directs the reader to the SA/DEIS and the CEC Conditions of Certification to the 186 conditions of certification/mitigation measures that have been created and will be implemented for the Project.

Finally, La Cuna and CARE raise a concern that, “the RMP violates the Federal Land Policy Management Act [FLPMA].” Western acknowledges this comment and the concern that La Cuna and CARE have with BLM's FLMPA responsibilities.

Decision

Western's decision is to allow RSE's request for interconnection to Western's transmission system at its Parker-Blythe No. 2 Transmission Line and to construct, own and operate a new substation.³ Western's decision to grant this interconnection request satisfies the agency's statutory mission and RSE's objectives while minimizing harm to the environment.

³ Western's authority to issue a ROD is pursuant to authority delegated on November 16, 2011, from DOE's Office of the General Counsel.

This decision is based on the information contained in the Rice Solar Energy Project Final EIS. This ROD was prepared pursuant to the requirements of the Council on Environmental Quality Regulations for Implementing NEPA (40 CFR parts 1500-1508) and DOE's Procedures for Implementing NEPA (10 CFR part 1021).

Dated: December 12, 2011.
Timothy J. Meeks,
Administrator.

[FR Doc. 2011-32507 Filed 12-19-11; 8:45 am]

BILLING CODE 6450-01-P